POSTAL SERVICE

Temporary Emergency Committee of the Board of Governors; Sunshine Act Meeting

DATES AND TIMES: Thursday, November 12, 2015, at 10:15 a.m.; and Friday, November 13, at 8:30 a.m. and 10:00 a.m.

PLACE: Washington, DC, at U.S. Postal Service Headquarters, 475 L'Enfant Plaza SW., in the Benjamin Franklin Room.

STATUS: Thursday, November 12, at 10:15 a.m.—Closed; Friday, November 13, at 8:30 a.m.—Open; and Friday November 13, at 10:30 a.m.—Closed.

MATTERS TO BE CONSIDERED:

Thursday, November 12, 2015, at 10:15 a.m. (Closed)

1. Strategic Issues.

2. Pricing.

3. Financial Matters.

4. Compensation and Personnel Matters.

5. Governors' Executive Session—Discussion of prior agenda items and Board governance.

Friday, November 13, at 8:30 a.m. (Open)

1. Remarks of the Chairman of the Temporary Emergency Committee of the Board.

2. Remarks of the Postmaster General and CEO.

3. Approval of Minutes of Previous Meetings.

4. Committee Reports.

5. FY2015 10K and Financial Statements.

6. FY2016 IFP and Financing Resolution.

7. FY2017 Appropriations Request.

8. Quarterly Service Performance Report.

9. Approval of Annual Report and Comprehensive Statement.

10. Tentative Agenda for the January 7, 2016, teleconference.

11. Election of Chairman and Vice Chairman of the Board of Governors.

Friday, November 13, at 10:30 a.m. (Closed—if needed)

1. Continuation of Thursday's closed session agenda.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2015-26889 Filed 10-19-15; 4:15 pm]

BILLING CODE 7710-12-P